NUCLEAR REGULATORY COMMISSION

[Docket Nos. 72-1031 and 72-44; NRC-2023-0121]

Arizona Public Service Company; Palo Verde Nuclear Generating Station Independent Spent Fuel Storage Installation

AGENCY: Nuclear Regulatory Commission.

ACTION: Exemption; issuance.

SUMMARY: The U.S. Nuclear Regulatory Commission (NRC) issued an exemption in response to a request from Arizona Public Service Company. The exemption will allow the licensee to deviate from the requirements for the NAC International, Inc. MAGNASTOR® Storage System in Certificate of Compliance No. 1031, Amendment No. 7, by utilizing storage cask lids that were not fabricated in accordance with the requirements of two codes issued by the American Concrete Institute (ACI).

DATES: The exemption to Arizona Public Service Company was issued on July 5, 2023.

ADDRESSES: Please refer to Docket ID NRC-2023-0121 when contacting the NRC about the availability of information regarding this document. You may obtain publicly available information related to this document using any of the following methods:

• Federal Rulemaking Website: Go to https://www.regulations.gov and search for Docket ID NRC-2023-0121. Address questions about Dockets IDs in Regulations.gov to Stacy Schumann; telephone: 301-415-0624; email: Stacy.Schumanns@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Nishka Devaser, Office of Nuclear Material Safety and Safeguards, U.S. Nuclear Regulatory Commission, Washington, DC 20555-0001; telephone: 301-415-5196, email: Nishka.Devaser@nrc.gov.

SUPPLEMENTARY INFORMATION:

I. Introduction

The NRC issued an exemption (ADAMS Package Accession No. ML23166B082) in response to a request dated May 23, 2023, from Arizona Public Service Company for the Palo Verde Nuclear Generating Station Independent Spent Fuel Storage Installation (ISFSI) (ADAMS Accession No. ML23143A391). The exemption allows exemption from the requirements of §§ 72.212(a)(2), (b)(3), and (b)(5)(i) and 72.214 and the portion of § 72.212(b)(11) of title 10 of the Code of Federal Regulations (10 CFR) that requires compliance with the terms and conditions set forth in the certificate of compliance for each spent fuel cask used by an ISFSI general licensee.

The exemption requested authorization to load and store spent fuel in MAGNASTOR® storage casks with lids that were not fabricated in accordance with Technical Specification A4.2, as specified in Amendment No. 7 of the NAC International Certificate of Compliance No. 1031 for the MAGNASTOR® storage system. Amendment No. 7 is used at the Palo Verde ISFSI (ADAMS Package Accession No. ML17013A466).

Technical Specification, Appendix A, A4.2 requires the concrete cask lid to be designed and fabricated in accordance with the American Concrete Institute Specifications ACI-349, “Code Requirements for Nuclear Safety Related Concrete Structures,” and ACI-318, “Building Code Requirements for Structural Concrete,” which according to the technical specifications govern the concrete cask design and construction, respectively.

NAC submitted an amendment request dated January 24, 2022 (ADAMS Accession No. ML22024A374) to eliminate the need for compliance with the referenced technical specification for the concrete in the cask lids in the Certificate of Compliance No. 1031 for the MAGNASTOR® storage system, however this exemption was necessary to meet loading campaigns scheduled before resolution of NAC's amendment request. The applications provided information documenting that the concrete in the cask lids is not relied upon for the strength safety function provided by the ACI codes in Technical Specification, Appendix A, A4.2, and the concrete in the cask lids was fabricated using standards that ensure the concrete will continue to meet the required shielding safety function. Based on the NRC staff's evaluation of the exemption request, and the statements and representations provided by the applicant in the exemption request, the staff concluded that the proposed action to exempt the cask lids from the current Technical Specification in A4.2 at the ISFSI site is authorized by law and will not endanger life, property, or the common defense and security, and is otherwise in the public interest and therefore meets the exemption requirements in 10 CFR 72.7.

Dated: July 6, 2023.
For the Nuclear Regulatory Commission.
Bernard H. White,
Acting Chief, Storage and Transportation Licensing Branch, Division of Fuel Management, Office of Nuclear Material Safety and Safeguards.

[FR Doc. 2023-14602 Filed 7-10-23; 8:45 am]

BILLING CODE 7590-01-P